DEPARTMENT OF HOUSING AND URBAN DEVELOPMENT

[Docket No. FR-5480-C-120]

Notice of Submission of Proposed Information Collection to OMB; Self-Help Homeownership Opportunity Program (SHOP)

AGENCY: Office of the Chief Information Officer, HUD.

ACTION: Correction.

SUMMARY: This notice informs the public that the Department of Housing and Urban Development has submitted to the Office of Management and Budget (OMB) a request for approval of the information collection requirement described below, as required by the Paperwork Reduction Act. Interested persons are invited to submit comments to OMB regarding this information collection. This is correction reporting burden hours were incorrect.

DATES: Comments Due Date: January 23, 2012.

ADDRESSES: Comments should refer to the proposal by name and/or OMB approval Number (2506-0157) and should be sent to: HUD Desk Officer, Office of Information and Regulatory Affairs (OIRA), Office of Management and Budget, New Executive Office Building, Washington, DC 20503; fax: (202) 395-5806. Email: OIRA_Submission@omb.eop.gov fax: (202) 395-5806.

FOR FURTHER INFORMATION CONTACT: Colette Pollard., Reports Management Officer, QDAM, Department of Housing and Urban Development, 451 Seventh Street SW., Washington, DC 20410; email Colette Pollard at Colette.Pollard@hud.gov or telephone (202) 402-3400. This is not a toll-free number. Copies of documents submitted to OMB may be obtained from Ms. Pollard.

Title of Proposal: Self-Help Homeownership Opportunity Program (SHOP).

OMB Approval Number: 2506-0157.

Agency Form Numbers: HUD-424, HUD-424B, HUD-424CB, HUD-2880, HUD-2990, HUD-2993, HUD-2995, HUD-9601, HUD-96011.

Description of the Information Collection and Its Proposed Use:

The Self-Help Homeownership Opportunity Program (SHOP) is authorized by the Housing Opportunity Program Extension Act of 1996, Section 11. The purpose of SHOP is to provide grant funds to facilitate and encourage innovative homeownership opportunities on a national, geographically diverse basis through the provision of self-help homeownership housing programs. SHOP funds are appropriated by Congress, generally annually. HUD publishes a SHOP Notice of Funding Availability (NOFA) that announces the amount of SHOP grant funds and the application criteria, including the rating and ranking system HUD will use to select grantees.

Frequency of Submission: Annually in response to the issuance of a SHOP NOFA.

| Number of respondents | Annual responses | × | Hours per response | Burden hours
Reporting Burden | 10 | 1 |  | 265.5 | 2,655

Total Estimated Burden Hours: 2,655.

Status: Extension of a previously approved information collection.

Authority: Section 3507 of the Paperwork Reduction Act of 1995, 44 U.S.C. 35, as amended.

Dated: December 20, 2011.
Colette Pollard,
Departmental Reports Management Officer, Office of the Chief Information Officer.

[FR Doc. 2011-32969 Filed 12-22-11; 8:45 am]

BILLING CODE 4210-67-P